DEPARTMENT OF TRANSPORTATION

Maritime Administration

[Docket No. MARAD-2001-10651]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before November 23, 2001.

FOR FURTHER INFORMATION CONTACT: Evelyn Harley, Maritime Administration, (MAR 560), 400 7th Street, SW., Washington, DC 20590, TEL 202-366-5867 or FAX 202-366-9580. Copies of this collection can also be obtained from that office.

SUPPLEMENTARY INFORMATION: Title of Collection: Uniform Financial Reporting Requirements.

Type of Request: Extension of currently approved information collection.

OMB Control Number: 2133-0005.

Form Numbers: MA-172.

Expiration Date of Approval: April 30, 2002.

Summary of Collection of Information: The Uniform Financial Reporting Requirements are used as a basis for preparing and filing semiannual and annual financial statements with the Maritime Administration. Regulations requiring financial reports to the Maritime Administration are authorized by Section 801, Merchant Marine Act, 1936, as amended.

Need and Use of the Information: The collected information is necessary for MARAD to determine compliance with regulatory and contractual requirements.

Description of Respondents: Vessel owners acquiring ships from MARAD on credit, companies chartering ships from MARAD, and companies having Title XI guarantee obligations.

Annual Responses: 198.

Annual Burden: 1881 hours.

Comments: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT, Monday through Friday, except Federal Holidays. An electronic version of this document is available on the World Wide Web at http://dms.dot.gov.

Dated: September 18, 2001.
By order of the Maritime Administrator.
Joel C. Richard,
Secretary.

[FR Doc. 01-23807 Filed 9-21-01; 8:45 am]

BILLING CODE 4910-81-P